DEPARTMENT OF TRANSPORTATION

Coast Guard

33 CFR Part 165

[COTP Miami 00-030]

RIN 2115-AA97

Safety Zone Regulations; Fort Lauderdale, FL

AGENCY: Coast Guard, DOT.

ACTION: Temporary final rule.

SUMMARY: The Coast Guard Captain of the Port is establishing a temporary fixed safety zone closing the Atlantic Intracoastal Waterway to all marine traffic at the Fort Lauderdale Southeast 17th Street (State Road A1A) highway bridge in Fort Lauderdale, FL. The safety zone will be in effect during construction activities associated with the disassembly of the temporary and existing drawbridges across the waterway. This safety zone is needed to protect all vessels from potential safety hazards associated with the removal of the bridge span sections. No vessels will be allowed to approach within 200 yards of the bridge during this period unless authorized by the Captain of the Port or his designated representative.

DATES: This rule is effective from 6 a.m. on April 3, 2000, until 7 a.m. on April 15, 2000.

FOR FURTHER INFORMATION CONTACT: Lieutenant Boudrow, at Coast Guard Marine Safety Office, Miami, Florida, tel: (305) 535-8701.

SUPPLEMENTARY INFORMATION:

Background and Purpose

The Coast Guard Captain of the Port is establishing a temporary safety zone closing the Intracoastal Waterway at the 17th Street Causeway Bridge, Mile Marker 1065.9, in Fort Lauderdale, FL to all marine traffic. This closure has been requested by the Florida Department of Transportation in order to remove portions of the temporary and existing drawbridges across the waterway by contractors. The work includes removal of a 150-ton bridge span and 179-ton counterweight and will be carried out from several large barges anchored within the waterway. The Coast Guard has reviewed the planned scope of work and has determined that a safety zone and waterway closure are necessary to protect all vessels from potential safety hazards posed by construction activities. The closure of the waterway is scheduled for weekday and evening periods to minimize the impact to the boating community. The Coast Guard will issue Broadcast Notice to Mariners and the Florida Department of Transportation will place electronic message signs at various locations on the Intracoastal Waterway to advise mariners of the scheduled closure. Boat traffic will be directed to Hillsboro Inlet and the Port of Palm Beach to the north and Port Everglades to the south as alternate routes. The closure will be strictly enforced by the Coast Guard and will also be monitored by the Florida Marine Patrol.

In accordance with 5 U.S.C. 553, a notice of proposed rulemaking (NPRM) was not published for this rule and good cause exists for making it effective in less than 30 days after Federal Register Publication. Publishing an NPRM and delaying its effective date would be contrary to public safety since immediate action is needed to minimize potential danger to the public.

Regulatory Evaluation

This proposal is not a “significant regulatory action” under section 3(f) of Executive Order 12866 and does not require an assessment of potential costs and benefits under section 6(a)(3) of that order. The Office of Management and Budget has not reviewed it under that order. It is not “significant” under the regulatory policies and procedures of the Department of Transportation (DOT) (44 FR 11040: February 26, 1979). The Coast Guard expects the economic impact of this proposal to be so minimal that a full Regulatory Evaluation under paragraph 10(e) of the regulatory policies and procedures of DOT is unnecessary. The safety zone will only be in effect for two 12 hour periods at night, and a 72 hour weekday period during the removal of the temporary drawbridge. Further, mariners have been advised through local notices and have alternate ways around the closure.

Small Entities

Under the Regulatory Flexibility Act (5 U.S.C. 601 et seq.), the Coast Guard must consider whether this rule will have a significant economic effect upon a substantial number of small entities. “Small entities” include small business, not-for-profit organizations that are independently owned and operated and are not dominant in their fields, and governmental jurisdictions with populations of less than 50,000.

The Coast Guard certifies under 5 U.S.C. 605(b) that this rule will not have a significant economic impact on a substantial number of small entities as the regulations will only be in effect for three days during the temporary bridge removal, the closure will be publicized by broadcasts and signs, and mariners can get around the closure by using alternative inlets.

Assistance for Small Entities

Under section 213(a) of the Small Business Regulatory Enforcement Fairness Act of 1996 (Pub. L. 104-221), we offer to assist small entities in understanding the rule so that they could better evaluate its effects on them and participate in the rulemaking process. Small entities may contact the person listed under FOR FURTHER INFORMATION CONTACT for assistance in understanding and participating in this rulemaking. We also have a point of contact for commenting on actions by employees of the Coast Guard. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information requirements under the Paperwork Reduction Act (44 U.S.C. 3501 et seq.).

Federalism

We have analyzed this rule under Executive Order 13132 and have determined that this rule does not have implications for federalism under that order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking disproportionately affect children.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or safety that may disproportionately affect children.

Environment

The Coast Guard has considered the environmental impact of this action and has determined under figure 2-1, paragraph 34(g) of Commandant Instruction M16475.1C, that this rule is categorically excluded from further environmental documentation.

List of Subjects in 33 CFR Part 165

Harbors, Marine safety, Navigation (water), Reporting and recordkeeping requirements, Safety measures, Waterways.

Temporary Regulations

In consideration of the foregoing, the Coast Guard amends Subpart C of Part 165 of title 33, Code of Federal Regulations, as follows:

PART 165—[AMENDED]

1. The authority citation for Part 165 continues to read as follows:

Authority: 33 U.S.C. 1231; 50 U.S.C. 191; 49 CFR 1.46 and 33 CFR 1.05-1(g), 6.04-1, 6.04-6, and 160.5.

2. From 6 a.m. April 3, 2000, until 7 a.m., April 15, 2000, temporary § 165.T07-030 is added to read as follows:

§ 165.T07-030 Safety Zone; Fort Lauderdale, Florida

(a) Regulated area. All waters within 200 yards on either side of the 17th Street Causeway Bridge, Mile Marker 1065.9, in Fort Lauderdale, Florida.

(b) Regulations. In accordance with the general regulations in 165.23 of this part, anchoring, mooring or transiting in this zone is prohibited unless authorized by the Coast Guard Captain of the Port. The Captain of the Port will notify the public of any changes in the status of this zone by Marine Safety Radio Broadcast on VHF Marine Band Radio, Channel 22 (157.1 MHz).

(c) Effective dates. This section is applicable from 6 a.m. on April 3, 2000, to 6 a.m. on April 6, 2000, and from 7 p.m. to 7 a.m. each night on April 12 and 13, 2000. In the event of inclement weather on April 12 or 13, this section is applicable from 7 p.m. on April 14 to 7 a.m., April 15, 2000.

Dated: March 20, 2000.
L.J. Bowling,
Captain, U. S. Coast Guard, Captain of the Port, Miami, Florida.

[FR Doc. 00-7854 Filed 3-29-00; 8:45 am]

BILLING CODE 4910-15-U